DEPARTMENT OF COMMERCE

Submission for OMB Review: Comment Request

DOC has submitted to the Office of Management and Budget (OMB) for clearance the following proposal for collection of information under the provisions of the Paperwork Reduction Act of 1995, Public Law 104-13.

Bureau: International Trade Administration.

Title: Advocacy Quality Assurance Survey.

Agency Form Number: ITA-XXXX.

OMB Number: 0625-XXXX.

Type of Request: Regular submission.

Burden: 37.92 hours.

Number of Respondents: 227.5.

Avg. Hours Per Response: 10 minutes.

Needs and Uses: The International Trade Administration's U.S. Commercial Service is mandated by Congress to help U.S. businesses, particularly small and medium-sized companies, export their products and services to global markets. As part of its mission, the U.S. Commercial Service uses “Quality Assurance Surveys” to collect feedback from the U.S. business clients it serves. These surveys ask the client to evaluate the U.S. Commercial Service on its customer service provision. Results from the surveys are used to make improvements to the agency's business processes in order to provide better and more effective export assistance to U.S. companies. The purpose of the attached survey is to collect feedback from U.S. businesses that receive advocacy services from the U.S. Commercial Service. In providing these services, the U.S. Commercial Service advocates on behalf of a U.S. company that is bidding on a project or government contract, trying to recover payment or goods, or facing a barrier to market entry.

Affected Public: U.S. companies who receive advocacy services from USFCS international posts.

Frequency: Upon completion of receipt of advocacy services (on occasion).

Respondents Obligation: Voluntary.

OMB Desk Officer: David Rostker, (202) 395-7340.

Copies of the above information collection can be obtained by calling or writing Diana Hynek, Department Paperwork Clearance Officer, (202) 482-0266, Department of Commerce, Room 6625, 14th and Constitution Avenue, NW., Washington, DC 20230. E-mail dHynek@doc.gov.

Written comments and recommendations for the proposed information collection should be sent to David Rostker, OMB Desk Officer, Room 10202, New Executive Office Building, Washington, DC 20503 within 30 days of the publication of this notice in the Federal Register.

Dated: June 14, 2004.
Madeleine Clayton,
Management Analyst, Office of the Chief Information Officer.

[FR Doc. 04-13735 Filed 6-17-04; 8:45 am]

BILLING CODE 3510-FP-P